DEPARTMENT OF THE INTERIOR

Bureau of Land Management

[WY-920-1430-ET; WYW 88021]

Public Land Order No. 7623; Extension of Public Land Order No. 6581; Wyoming

AGENCY: Bureau of Land Management, Interior.

ACTION: Public land order.

SUMMARY: This order extends Public Land Order No. 6581 for an additional 20-year period. This extension is necessary to continue protection of the equity of the Department of Housing and Urban Development in a public housing facility.

EFFECTIVE DATE: January 9, 2005.

FOR FURTHER INFORMATION CONTACT: Janet Booth, BLM Wyoming State Office, 5353 N. Yellowstone Road, P.O. Box 1828, Cheyenne, Wyoming 82003, 307-775-6124.

Order

By virtue of the authority vested in the Secretary of the Interior by section 204 of the Federal Land Policy and Management Act of 1976, 43 U.S.C. 1714 (2000), it is ordered as follows:

1. Public Land Order No. 6581 (50 FR 1055, January 9, 1985), which withdrew 5.55 acres of land from settlement, sale, location, or entry under the public land laws, but not the mining laws, to protect the equity of the Department of Housing and Urban Development, is hereby extended for an additional 20-year period.

2. Public Land Order No. 6581 will expire on January 8, 2025, unless, as a result of a review conducted prior to the expiration date pursuant to section 204(f) of the Federal Land Policy and Management Act of 1976, 43 U.S.C. 1714(f) (2000), the Secretary determines that the withdrawal shall be extended.

Dated: December 20, 2004.
Rebecca W. Watson,
Assistant Secretary—Land and Minerals Management.

[FR Doc. 05-329 Filed 1-6-05; 8:45 am]

BILLING CODE 4210-33-P